DEPARTMENT OF DEFENSE

Office of the Secretary

[Docket ID: DOD-2016-OS-0083]

Proposed Collection; Comment Request

AGENCY: Defense Security Service (DSS), DoD.

ACTION: Notice.

SUMMARY: In compliance with the Paperwork Reduction Act of 1995, the Defense Security Service (DSS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 3, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Center for Development of Security Excellence (CDSE), Training Division, ATTN: Brian K. Miller, 938 Elkridge Landing Road, Linthicum, MD 21090-2917, or call CDSE, Training Division, at 410-689-1134.

SUPPLEMENTARY INFORMATION:

Title; Associated Form; and OMB Number: CDSE Supervisor Training Evaluation Survey; OMB Control Number 0704-XXXX.

Needs and Uses: The information collection requirement is necessary to obtain and record experiences and evaluations from customers of CDSE, particularly with regard to supervisor training. Customers include both education and training customers, with the information collected pertaining to services and products provided by CDSE. The information collection is a survey distributed to participants in selected CDSE learning events, approximately 90-180 days after the event. Only learning events that involve a significant time commitment on the part of participants—or a financial commitment on the part of participant organizations, such as travel and time expenses—will be selected. Generally, this would entail instructor-led classes longer than a full day.

Affected Public: Business or other for profit; Not-for-profit institutions.

Annual Burden Hours: 80.

Number of Respondents: 400.

Responses per Respondent: 1.

Annual Responses: 400.

Average Burden per Response: 12 minutes.

Frequency: On occasion.

Respondents are supervisors of security education and training customers who are required to participate in learning events by their employers or are engaged in professional development in security disciplines. Burden is reported as an annual average, and the actual burden depends on the number of learning events attended. No personally identifiable information is requested and anonymity of responses is maintained. Responses are used in the conduct of continuous evaluation of education and training activities required by DoDM 3115.11 (“DoD Intelligence and Security Training Standards,” March 24, 2015), and 5 CFR 410.202 (“Responsibilities for Evaluating Training,” December 10, 2009).

Dated: July 29, 2016.
Aaron Siegel,
Alternate OSD Federal Register Liaison Officer, Department of Defense.

[FR Doc. 2016-18460 Filed 8-3-16; 8:45 am]

BILLING CODE 5001-06-P